DEPARTMENT OF COMMERCE

National Oceanic and Atmospheric Administration

[I.D. 071204C]

RIN 0648-AT11

Fisheries Off West Coast States; Coastal Pelagic Species Fisheries; Amendment 11

AGENCY: National Marine Fisheries Service (NMFS), National Oceanic and Atmospheric Administration (NOAA), Commerce.

ACTION: Notice; withdrawal of Notice of Intent.

SUMMARY: This notice retracts the Notice of Intent (NOI) to prepare an Environmental Impact Statement (EIS) to analyze a range of alternatives for the annual allocation of the Pacific sardine harvest guideline proposed action published on July 19, 2004. Further scoping subsequent to the publication of the NOI revealed additional information indicating that it was unlikely the proposed action would result in significant environmental impacts. An Environmental Assessment (EA) was completed and a subsequent Finding of No Significant Impact (FONSI) was signed.

ADDRESSES: Copies of the Final Environmental Assessment /Regulatory Impact Review may be obtained from Rodney R. McInnis, Regional Administrator, Southwest Region, NMFS, 501 West Ocean Blvd., Suite 4200, Long Beach, CA 90802-4213.

FOR FURTHER INFORMATION CONTACT: Joshua B. Lindsay, Southwest Region, NMFS, joshua.lindsay@noaa.gov, (562) 980-4034.

SUPPLEMENTARY INFORMATION: The original Notice of Intent to prepare an Environmental Impact Statement (EIS)was published July 19, 2004 (69 FR 42968). The determination that the proposed action would not likely result in significant environmental impacts was based on an evaluation of the criteria listed in NOAA Administrative Order 216-6, Environmental Review Procedures for Implementing the National Environmental Policy Act, Section 6.01 (Determining the Significance of NOAA's Actions) and 6.02 (Specific Guidance on Significance of Fishery Management Actions). To aid in this determination, the Pacific Fisheries Management Council and NMFS prepared an environmental assessment (EA) instead of an EIS to evaluate whether significant impacts would likely result from the proposed action. A final version of this EA was made available to the public on November 16, 2005 (70 FR 69502). Based on this evaluation, the Assistant Administrator for Fisheries made a Finding of No Significant Impact on June 13, 2006. In concurrence with this finding, the NOAA National Environmental Policy Act Coordinator determined there was no further need to prepare an EIS.

Authority: 16 U.S.C. 1801 et seq.

Dated: August 15, 2006.
James P. Burgess,
Acting Director, Office of Sustainable Fisheries, National Marine Fisheries Service.

[FR Doc. E6-13783 Filed 8-18-06; 8:45 am]

BILLING CODE 3510-22-P